DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of August 18, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
Riverside County, California, and Incorporated Areas
Docket No.: FEMA-B-1330
City of Beaumont | Civic and Community Center, 550 East 6th Street, Beaumont, CA 92223.
City of Menifee | Public Works-Engineering Department, 29714 Haun Road, Menifee, CA 92586.
City of Perris | Engineering Department, 170 Wilkerson Avenue, Perris, CA 92570.
Unincorporated Areas of Riverside County | Riverside County Flood Control and Water Conservation District, 1995 Market Street, Riverside, CA 92502.
Broward County, Florida, and Incorporated Areas
Docket No.: FEMA-B-1276
City of Coconut Creek | City Hall, 4800 West Copans Road, Coconut Creek, FL 33063.
City of Cooper City | City Hall, 9090 Southwest 50th Place, Cooper City, FL 33328.
City of Coral Springs | Building Department, 9530 West Sample Road, Coral Springs, FL 33065.
City of Dania Beach | City Hall, 100 West Dania Beach Boulevard, Dania Beach, FL 33004.
City of Deerfield Beach | Environmental Services—Engineering, 200 Goolsby Boulevard, Deerfield Beach, FL 33442.
City of Fort Lauderdale | City Hall, 100 North Andrews Avenue, Fort Lauderdale, FL 33301.
City of Hallandale Beach | City Hall, 400 South Federal Highway, Hallandale Beach, FL 33009.
City of Hollywood | City Hall, 2600 Hollywood Boulevard, Hollywood, FL 33020.
City of Lauderdale Lakes | City Hall, 4300 Northwest 36th Street, Lauderdale Lakes, FL 33319.
City of Lauderhill | City Hall, 5581 West Oakland Park Boulevard, Lauderhill, FL 33313.
City of Lighthouse Point | City Hall, 2200 Northeast 38th Street, Lighthouse Point, FL 33064.
City of Margate | Department of Environmental and Engineering Services, 901 Northwest 66th Avenue, Suite A, Margate, FL 33063.
City of Miramar | City Hall, 2300 Civic Center Place, Miramar, FL 33025.
City of North Lauderdale | City Hall, 701 Southwest 71st Avenue, North Lauderdale, FL 33068.
City of Oakland Park | Engineering and Community Development Department, 5399 North Dixie Highway, Suite 3, Oakland Park, FL 33334.
City of Parkland | City Hall, 6600 University Drive, Parkland, FL 33067.
City of Pembroke Pines | City Hall, 10100 Pines Boulevard, Pembroke Pines, FL 33026.
City of Plantation | City Hall, 400 Northwest 73rd Avenue, Plantation, FL 33317.
City of Pompano Beach | City Hall, 100 West Atlantic Boulevard, Pompano Beach, FL 33060.
City of Sunrise | City Hall, 10770 West Oakland Park Boulevard, Sunrise, FL 33351.
City of Tamarac | City Hall, 7525 Northwest 88th Avenue, Tamarac, FL 33321.
City of West Park | City Hall, 1965 South State Route 7, West Park, FL 33023.
City of Weston | City Hall, 17200 Royal Palm Boulevard, Weston, FL 33326.
City of Wilton Manors | City Hall, 2020 Wilton Drive, Wilton Manors, FL 33305.
Seminole Tribe of Florida | 6300 Stirling Road, Hollywood, FL 33024.
Town of Davie | Town Hall, 6591 Orange Drive, Davie, FL 33314.
Town of Hillsboro Beach | Town Hall, 1210 Hillsboro Mile, Hillsboro Beach, FL 33062.
Town of Lauderdale-By-The-Sea | Town Hall, 4501 Ocean Drive, Lauderdale-By-The-Sea, FL 33308.
Town of Pembroke Park | Town Hall, 3150 Southwest 52nd Avenue, Pembroke Park, FL 33023.
Town of Southwest Ranches | Town Hall, 13400 Griffin Road, Southwest Ranches, FL 33330.
Unincorporated Areas of Broward County | Broward County Administration Office, 115 South Andrews Avenue, Room 409, Fort Lauderdale, FL 33301.
Village of Lazy Lake | Village Hall, 2250 Lazy Lane, Lazy Lake, FL 33305.
Village of Sea Ranch Lakes | Village Hall, 1 Gatehouse Road, Sea Ranch Lakes, FL 33308.
Broadwater County, Montana, and Incorporated Areas
Docket No.: FEMA-B-1281
City of Townsend | 110 Broadway Street, Townsend, MT 59644.
Unincorporated Areas of Broadwater County | Broadwater County Treasurer, 515 Broadway Street, Townsend, MT 59644.
Greenville County, South Carolina, and Incorporated Areas
Docket No.: FEMA-B-1238
City of Greenville | City Hall, 206 South Main Street, Greenville, SC 29602.
City of Greer | City Hall, 106 South Main Street, Greer, SC 29650.
City of Mauldin | City Hall, 5 East Butler Road, Mauldin, SC 29662.
City of Simpsonville | City Hall, 118 North Main Street, Simpsonville, SC 29681.
City of Travelers Rest | City Hall, 6711 State Park Road, Travelers Rest, SC 29690.
Town of Fountain Inn | Town Hall, 200 North Main Street , Fountain Inn, SC 29644.
Unincorporated Areas of Greenville County | Greenville County Codes Department, 301 University Ridge, Suite 4100, Greenville, SC 29601.
Travis County, Texas, and Incorporated Areas
Docket No.: FEMA-B-1272
City of Austin | Watershed Engineering Division, 1 Texas Center, 505 Barton Springs Road, 12th Floor, Austin, TX 78704.
City of Manor | City Hall, 201 East Parsons Street, Manor, TX 78653.
City of Pflugerville | Development Services Center, 201-B East Pecan Street, Pflugerville, TX 78660.
City of Round Rock | Transportation Department, 2008 Enterprise Drive, Round Rock, TX 78664.
Unincorporated Areas of, Travis County | Travis County Transportation and Natural Resources Department, 700 Lavaca Street, 5th Floor, Austin, TX 78701.
Rockingham County, Virginia, and Incorporated Areas
Docket No.: FEMA-B-1284
Town of Bridgewater | Town Hall, 201 Green Street, Bridgewater, VA 22812.
Unincorporated Areas of Rockingham County | Rockingham County Administration Center, 20 East Gay Street, Harrisonburg, VA 22802.

(Catalog of Federal Domestic Assistance No. 97.022, “Flood Insurance.”)

Dated: July 11, 2014.
Roy E. Wright,
Deputy Associate Administrator for Mitigation, Department of Homeland Security, Federal Emergency Management Agency.

[FR Doc. 2014-18229 Filed 7-31-14; 8:45 am]

BILLING CODE 9110-12-P